DEPARTMENT OF AGRICULTURE

Forest Service

Management Direction for the John Muir, Ansel Adams, and Dinkey Lakes Wildernesses; Inyo and Sierra National Forests

AGENCY: Forest Service, USDA.

ACTION: Notice of intent to prepare a Revised Draft Environmental Impact Statement.

SUMMARY: Notice is hereby given that the USDA, Forest Service will prepare a revised draft environmental impact statement (DEIS) to establish management direction for the John Muir, Ansel Adams, and Dinkey Lakes Wilderness areas. Notices of Intent published in the August 12, 1992 issue of the Federal Register (57 FR 36061) and the June 2, 2000 issue of the Federal Register (65 FR 35317-35318) listed the Monarch Wilderness area on the Sequoia National Forest as included in the management direction to be established. The Monarch Wilderness is no longer included. All other information remains the same as published in the earlier Notices of Intent.

FOR FURTHER INFORMATION CONTACT: Direct questions regarding the proposed action and revised DEIS to Mary Beth Hennessy, Wilderness Specialist, Inyo National Forests (760) 873-2400; or Teri Drivas, Recreation and Lands Officer, Sierra National Forest (559) 297-0706.

Bill Bramlette,
Acting Forest Supervisor, Inyo National Forest.
Alan M. Quan,
Acting Forest Supervisor, Sierra National Forest.
Arthur L. Gaffrey,
Acting Forest Supervisor, Sequoia National Forest.

[FR Doc. 00-19613 Filed 8-2-00; 8:45 am]

BILLING CODE 3410-11-M